DEPARTMENT OF COMMERCE

National Oceanic and Atmospheric Administration

50 CFR Part 648

[Docket No. 240205-0038; RTID 0648-XD564]

Fisheries of the Northeastern United States; Monkfish Fishery; 2024 Monkfish Specifications

AGENCY: National Marine Fisheries Service (NMFS), National Oceanic and Atmospheric Administration (NOAA), Commerce.

ACTION: Final rule.

SUMMARY: NMFS is implementing specifications for the 2024 monkfish fishery. This action is necessary to ensure allowable monkfish harvest levels that will prevent overfishing and allow harvesting of optimum yield. This action is intended to establish the allowable 2024 harvest levels, consistent with the Monkfish Fishery Management Plan and previously announced multi-year specifications.

DATES: The final specifications for the 2024 monkfish fishery are effective May 1, 2024, through April 30, 2025.

FOR FURTHER INFORMATION CONTACT: Spencer Talmage, Fishery Policy Analyst, (978) 281-9232.

SUPPLEMENTARY INFORMATION: The New England and Mid-Atlantic Fishery Management Councils (together, the Councils) jointly manage the monkfish fishery. The Monkfish Fishery Management Plan includes a specifications process that requires the Councils to recommend quotas on a triennial basis. This action finalizes 2024 specifications approved by the Councils in Framework Adjustment 13 to the Monkfish Fishery Management Plan, which included specifications for fishing years 2023-2025.

On August 11, 2023, NMFS published a final rule approving Framework 13 measures for the 2023 fishing year (88 FR 54495), based on a recent stock assessment update and consistent with the New England Council's Scientific and Statistical Committee recommendations. At that time, NMFS also projected a continuation of those same specifications for 2024 and 2025. The final total allowable landings in both the Northern and Southern Fishery Management Areas for 2024 are summarized in table 1. The 2024 measures are the same as those implemented in 2023.

Table 1—Monkfish Specifications for Fishing Year 2024
[in metric tons]
Catch limits | Northern area | Southern area
Acceptable Biological Catch | 6,224 | 5,861
Annual Catch Limit | 6,224 | 5,861
Management Uncertainty (3 percent) | 187 | 176
Annual Catch Target (Total Allowable Landings + discards) | 6,038 | 5,685
Expected Discards | 729 | 2,205
Total Allowable Landings | 5,309 | 3,481

NMFS has reviewed the available information on fishing years 2022 and 2023. There have been no annual catch limit overages, nor is there any new biological information that would require altering the projected 2024 specifications. Based on this, we are implementing the fishing year 2024 specifications announced in the Framework 13 final rule. The 2024 specifications will be effective until April 30, 2025.

This final rule makes no modification to other management measures for the monkfish fishery (e.g., trip limits, Days-At-Sea allocations, etc.).

Classification

Pursuant to section 304(b)(3) of the Magnuson-Stevens Fishery Conservation and Management Act (Magnuson-Stevens Act), the NMFS Assistant Administrator has determined that this final rule is consistent with the Monkfish Fishery Management Plan, other provisions of the Magnuson-Stevens Act, and other applicable law.

This final rule is exempt from review under Executive Order 12866.

Pursuant to 5 U.S.C. 553(b)(3)(B), we find good cause to waive prior public notice and opportunity for public comment on the catch limit and allocation adjustments because allowing time for notice and comment is unnecessary. The Framework 13 proposed rule provided the public with the opportunity to comment on the 2023-2025 specifications (88 FR 25351, April 26, 2023). Two comments were received on the proposed rule, only one of which specifically addressed the 2023-2025 specifications. This comment supported these specifications. Thus, the proposed and final rules that contained the projected 2023-2025 specifications provided a full opportunity for the public to comment on the substance and process of this action. No circumstances or conditions have changed in the monkfish fishery that would cause new concern or necessitate reopening the comment period and the final 2024 specifications being implemented by this rule are unchanged from those projected in the Framework 13 final rule.

The Chief Counsel for Regulation, Department of Commerce, previously certified to the Chief Counsel for Advocacy of the Small Business Administration (SBA) that the 2023-2025 monkfish specifications would not have a significant economic impact on a substantial number of small entities. Implementing status quo specifications for 2024 will not change the conclusions drawn in that previous certification to the SBA. Because advance notice and the opportunity for public comment are not required for this action under the Administrative Procedure Act, or any other law, the analytical requirements of the Regulatory Flexibility Act, 5 U.S.C. 601 et seq., do not apply to this rule. Therefore, no new regulatory flexibility analysis is required and none has been prepared.

This final rule contains no information collection requirements under the Paperwork Reduction Act of 1995.

Authority: 16 U.S.C. 1801 et seq.

Dated: February 5, 2024.
Samuel D. Rauch III,
Deputy Assistant Administrator for Regulatory Programs, National Marine Fisheries Service.

[FR Doc. 2024-02677 Filed 2-8-24; 8:45 am]

BILLING CODE 3510-22-P